FEDERAL TRADE COMMISSION

16 CFR Part 24

Guides for Select Leather and Imitation Leather Products

AGENCY: Federal Trade Commission.

ACTION: Request for public comments.

SUMMARY: The Federal Trade Commission (“FTC” or “Commission”) is requesting public comments on its Guides for Select Leather and Imitation Leather Products (“Leather Guides”). The Commission is soliciting the comments as part of its systematic review of all current Commission regulations and guides.

DATES: Written comments will be accepted until July 23, 2007.

ADDRESSES: Interested parties are invited to submit written comments. Comments should refer to “Guides for Select Leather and Imitation Leather Products, Matter No. P078008” to facilitate the organization of comments. A comment filed in paper form should include this reference both in the text and on the envelope, and should be mailed or delivered to the following address: Federal Trade Commission/Office of the Secretary, Room H-135 (Annex L), 600 Pennsylvania Avenue, NW., Washington, DC 20580. Comments containing confidential material, however, must be filed in paper form, must be clearly labeled “Confidential,” and must comply with Commission Rule 4.9(c).¹ The FTC is requesting that any comment filed in paper form be sent by courier or overnight service, if possible, because postal mail in the Washington area and at the Commission is subject to delay due to heightened security precautions. Comments filed in electronic form must be submitted by accessing the following site: https://secure.commentworks.com/ftc-leatherguides, and following the instructions on the web-based form.

¹ The comment must be accompanied by an explicit request for confidential treatment, including the factual and legal basis for the request, and must identify the specific portions of the comment to be withheld from the public record. The request will be granted or denied by the Commission's General Counsel, consistent with applicable law and the public interest. See Commission Rule 4.9(c), 16 CFR 4.9(c).

The FTC Act and other laws the Commission administers permit the collection of public comments to consider and use in this proceeding as appropriate. The Commission will consider all timely and responsive public comments that it receives, whether filed in paper or electronic form. Comments received will be available to the public on the FTC Web site, to the extent practicable, at http://www.ftc.gov. As a matter of discretion, the FTC makes every effort to remove home contact information for individuals from the public comments it receives before placing those comments on the FTC Web site. More information, including routine uses permitted by the Privacy Act, may be found in the FTC's privacy policy at http://www.ftc.gov/ftc/privacy.htm.

FOR FURTHER INFORMATION CONTACT: Susan E. Arthur, (214) 979-9370, Attorney, Southwest Region, Federal Trade Commission, 1999 Bryan Street, Suite 2150, Dallas, Texas 75201.

SUPPLEMENTARY INFORMATION:

I. Background

The Commission's Leather Guides address misrepresentations regarding the composition and characteristics of specific leather and imitation leather products. The Guides apply to the manufacture, sale, distribution, marketing, or advertising of leather or simulated leather purses, luggage, wallets, footwear, and other similar products. Importantly, the Leather Guides state that disclosure of non-leather content should be made for material which has the appearance of leather but is not leather.

The Leather Guides “are administrative interpretations of laws administered by the Commission for the guidance of the public in conducting its affairs in conformity with legal requirements. They provide the basis for voluntary and simultaneous abandonment of unlawful practices by members of industry.” 16 CFR 1.5. Conduct inconsistent with the Guides may result in corrective action by the Commission under applicable statutory provisions.

The Commission adopted the Leather Guides in 1996, as part of its periodic review of its rules and guides.² The Leather Guides consolidated portions of the Guides for the Luggage and Related Products Industry (“Luggage Guides”), the Guides for Shoe Content Labeling and Advertising (“Shoe Content Guides”), and the Guides for the Ladies’ Handbag Industry (“Handbag Guides”).³ The Leather Guides also included provisions previously contained in the Commission's Trade Regulation Rule Concerning Misbranding and Deception as to Leather Content of Waist Belts (“Waist Belt Rule”).⁴

² 61 FR 51577 (October 3, 1996).

³ The Luggage Guides, the Shoe Content Guides, and the Handbag Guides were repealed in 1995. 60 FR 48027 (September 18, 1995). On the same day, the Commission requested public comment regarding proposed Leather Guides. 60 FR 48056 (September 18, 1995).

⁴ The Commission had previously repealed the Waist Belt Rule. 61 FR 25560 (May 22, 1966).

The language of the Luggage Guides, the Shoe Content Guides, the Handbag Guides, and the Waist Belt Rule was updated and clarified in the Leather Guides, and unnecessary provisions were deleted. Further, the Leather Guides modified a number of provisions from the older Guides and the Waist Belt Rule. Among these modifications were an expansion of the scope of the Leather Guides to include misrepresentations in the marketing and advertising of industry products, the removal of the restriction that only top grain leather could be called “Leather” without qualification, and the inclusion of a requirement that manufacturers disclose the percentage of non-leather and leather material contained in bonded leather.

II. Regulatory Review Program

The Commission has determined, as part of its oversight responsibilities, to review all Commission rules and guides periodically. These reviews seek information about the costs and benefits of the Commission's rules and guides and their regulatory and economic impact. The information obtained assists the Commission in identifying rules and guides that warrant modification or rescission. Therefore, the Commission solicits comment on, among other things, the economic impact of and the continuing need for the Leather Guides; possible conflict between the Guides and state, local, federal, or international laws; and the effect of any technological, economic, environmental, or other industry changes on the Guides.

III. Request for Comment

The questions below are designed to assist the public and should not be construed as a limitation on the issues on which public comment may be submitted:

(1) Is there a continuing need for the Leather Guides as currently promulgated?

(2) Have the leather and imitation leather industries adopted the Leather Guides as part of their routine business practices? If so, how, and what effect, if any, does this have on the continuing need for the Guides?

(3) What benefits have the Leather Guides provided to purchasers of the products affected by the Guides?

(4) Are there costs imposed on purchasers when businesses follow the Leather Guides? If so, explain.

(5) How have the leather and imitation leather industries been affected by the Leather Guides' modifications to provisions previously contained in the Luggage Guides, the Shoe Content Guides, the Handbag Guides, and the Waist Belt Rule? How have those modifications affected purchasers?

(6) What burdens or costs, including costs of compliance, are imposed on businesses that follow the Leather Guides? In particular, what burdens or costs are imposed on small businesses that follow the Guides? Do the Guides provide benefits to businesses that follow them? If so, what benefits?

(7) What changes, if any, should be made to the Leather Guides to increase their benefits to purchasers? How would these changes affect any burdens or costs to businesses that follow the Leather Guides? How would these changes benefit purchasers?

(8) What changes, if any, should be made to the Leather Guides to reduce the burdens or costs to businesses that follow the Guides? How would these changes affect the benefits provided by the Guides?

(9) Do the Leather Guides overlap or conflict with other federal, state, or local laws or regulations? If so, explain. Do the Guides overlap or conflict with any foreign or international laws or regulations? If so, explain.

(10) Have consumer perceptions or preferences changed since the Leather Guides were issued, and, if so, do these changes warrant revising the Guides? If you believe that these changes warrant revisions, how should the Guides be revised?

(11) Since the Leather Guides were issued, what effects, if any, have changes in relevant technology, economic conditions, or environmental conditions had on the Guides?

List of Subjects in 16 CFR Part 24

Advertising, Belts, Distribution, Footwear, Imitation leather products, Labeling, Ladies' handbags, Leather and leather products industry, Luggage and related products, Shoes, Trade practices, Waist belts.

Authority: 15 U.S.C. 41-58.

By direction of the Commission.
Donald S. Clark,
Secretary.

[FR Doc. E7-9965 Filed 5-22-07; 8:45 am]

BILLING CODE 6750-01-P